DEPARTMENT OF HOUSING AND URBAN DEVELOPMENT

[Docket No. FR-6559-N-01]

Waivers and Alternative Requirements for Community Development Block Grant Mitigation (CDBG-MIT) Grantee

AGENCY: Office of the Assistant Secretary for Community Planning and Development, HUD.

ACTION: Notice.

SUMMARY: This notice governs Community Development Block Grant mitigation (CDBG-MIT) funds awarded under the appropriations acts identified in the Table of Contents. Specifically, this notice includes waivers and alternative requirements for the State of Texas' CDBG-MIT grants.

DATES: Applicability Date: September 29, 2025.

FOR FURTHER INFORMATION CONTACT: Gerilee Bennett, Acting Director, Office of Disaster Recovery, U.S. Department of Housing and Urban Development, 451 7th Street SW, Room 7282, Washington, DC 20410, telephone number 202-708-3587 (this is not a toll-free number). HUD welcomes and is prepared to receive calls from individuals who are deaf or hard of hearing, as well as individuals with speech or communication disabilities. To learn more about how to make an accessible telephone call, please visit: https://www.fcc.gov/consumers/guides/telecommunications-relay-service-trs. Email inquiries may be sent to disaster_recovery@hud.gov.

SUPPLEMENTARY INFORMATION:

Table of Contents

I. Authority To Grant Waivers

II. Public Law 115-123 and Public Law 116-20 Waivers and Alternative Requirements

I. Authority To Grant Waivers

The appropriations acts cited in the Table of Contents (Pub. L. 115-123 and Pub. L. 116-20) authorize the Secretary to waive or specify alternative requirements for any provision of any statute or regulation the Secretary administers. This includes requirements in connection with the obligation by the Secretary, or use by the recipient, of grant funds, except for requirements related to fair housing, nondiscrimination, labor standards, and the environment. HUD may also exercise its regulatory waiver authority under 24 CFR 5.110, 91.600, and 570.5.

All waivers and alternative requirements authorized in this notice are based upon a determination by the Secretary that good cause exists and the waiver or alternative requirement is not inconsistent with the overall purposes of title I of the Housing and Community Development Act of 1974 (42 U.S.C. 5301 et seq.) (HCDA). The basis for the waiver and alternative requirement is summarized in this notice.

II. Public Law 115-123 and Public Law 116-20 Waivers and Alternative Requirements

II.A. Waiver and Alternative Requirement To Remove Citizen Advisory Committee Requirements (State of Texas Only)

The Department received a request and justification of good cause from the State of Texas to waive the alternative requirement in the second paragraph of Section V.A.3.c of the notice published in 84 FR 45838 on August 30, 2019 (“the August 2019 Notice”), which requires CDBG-MIT grantees to form one or more citizen advisory committees. These committees are required to meet at least twice a year and solicit and respond to public comments, serving a function to provide increased transparency to the public on the use of the CDBG-MIT allocation. This waiver, as further described below, applies to the following grants allocated to the State: CDBG-MIT for disasters occurring in 2015 to 2017 funded by Public Law 115-123 and subject to the requirements in the August 2019 Notice, as modified by the noticed published in 85 FR 60821 on September 28, 2020 (“the September 2020 Notice”), and CDBG-MIT for disasters occurring in 2018 funded by Public Law 116-20 and subject to the requirements in 86 FR 561 on January 6, 2021 (“the January 2021 Notice”) and the August 2019 Notice and September 2020 Notice. This waiver request aligns with HUD's requirements included in the notice titled, Common Application, Waivers, and Alternative Requirements for Community Development Block Grant Disaster Recovery Grantees: The Universal Notice, published on January 8, 2025, at 90 FR 1754, as amended by Memorandums 2025-02 ¹ and 2025-03 ² (“The Universal Notice”). Section III.A.6.a of the Universal Notice does not require the use of citizen advisory committees but instead encourages their use as a means to gather feedback and recommendations from the public at least annually.

¹ Memorandum 25-02, “Revisions made to the Common Application, Waivers, and Alternative Requirements for Community Development Block Grant Disaster Recovery Grantees: The Universal Notice published in the Federal Register (90 FR 1754) and Clarifications to the Allocations for Community Development Block Grant Disaster Recovery and Implementation of the CDBG-DR Consolidated Waivers and Alternative Requirements Notice Published in the Federal Register (90 FR 4759),” published on March 19, 2025. Found at https://www.hud.gov/sites/dfiles/CPD/documents/CPDUniversalnotice.pdf.

² Memorandum 25-03, “Revisions made to the Common Application, Waivers, and Alternative Requirements for Community Development Block Grant Disaster Recovery Grantees: The Universal Notice published in the Federal Register (90 FR 1754),” published on March 31, 2025. Found at https://www.hud.gov/sites/default/files/CPD/documents/CDBG-DR/3-31-2025UniversalNoticeChangesMemo.pdf.

The August 2019 Notice requires that following HUD's approval of the action plan, each grantee must form one or more citizen advisory committees to meet in an open forum, at least twice a year. The primary function of these groups is to provide increased transparency to the public on use of the CDBG-MIT funds by soliciting and responding to public comments and serving as an on-going public forum to continuously provide input into the CDBG-MIT funded projects and programs. Citizen advisory committees could also be a part of the process to prepare the initial CDBG-MIT action plan submitted to HUD, although not expressly required.

The State of Texas reports that despite their efforts to engage and support the citizen advisory committees, member participation and engagement have significantly decreased over the last four years, and these groups no longer serve their intended purpose. The State of Texas describes its good faith attempts to create and maintain citizen advisory committees to include: soliciting membership applications from the public and non-profit sectors across different geographic regions in the state; creating two committees, with leadership positions within the committee, to allow for more stakeholder representation; and holding regularly scheduled meetings to maximize committee turnout.

Despite these efforts, the State reports that citizen advisory committees have become increasingly ineffective due to several challenges, including: a low response during the initial committee member application period; a lack of participation and low attendance at committee meetings; and a lack of interest in committee leadership roles or backfilling vacant positions. These ongoing recruitment, retention, and engagement challenges have resulted in the State spending a disproportionate amount of staff time trying to increase committee participation despite the overall decline in the committee's overall effectiveness.

After reviewing the State's request and based on the good cause provided herein, the Department is waiving the alternative requirement found in the second paragraph of Section V.A.3.c of the August 2019 Notice. HUD notes the State's efforts to try and form a successful citizen advisory group for its CDBG-MIT grants and, in alignment with Section III.A.6.a. of the Universal Notice, waives this requirement. However, if the State decides later that they do wish to work with a citizen advisory group, then the State can determine the cadence of the meetings and how the group would provide feedback to the grantee. This waiver only applies to the second paragraph of Section V.A.3.c as it relates to citizen advisory groups. The State must continue to follow the first paragraph of Section V.A.3.c as it relates to the availability and accessibility of the action plan, substantial amendments, and performance reports, as well as other citizen participation requirements in Section V.A.3.

Bryan W. Horn,
Acting Principal Deputy Assistant Secretary for Community Planning and Development.

[FR Doc. 2025-18476 Filed 9-23-25; 8:45 am]

BILLING CODE 4210-67-P